DEPARTMENT OF LABOR

Employment and Training Administration

[TA-W-62,045]

Tweel Home Furnishings Newark, NJ

Notice of Termination of Investigation

Pursuant to Section 221 of the Trade Act of 1974, as amended, an investigation was initiated on August 27, 2007, in response to a petition filed by a One-Stop Operator/Partner in North Carolina on behalf of workers of Tweel Home Fashions, Newark, New Jersey.

The One-Stop or state agency may only file petitions on behalf of workers employed by a firm located within its own State. Consequently, further investigation would serve no purpose, and the petition investigation is terminated.

Signed at Washington, DC, this 5th day of October 2007
Linda G. Poole,
Certifying Officer, Division of Trade Adjustment Assistance.

[FR Doc. E7-20590 Filed 10-18-07; 8:45 am]

BILLING CODE 4510-FN-P